DEPARTMENT OF ENERGY

Federal Energy Regulatory Commission

[Project No. 2206-082]

Notice of Comment Period Extension: Duke Energy Progress, LLC

On December 11, 2018, the Commission issued a notice setting January 10, 2019, as the end of the formal period to file comments, motions to intervene, and protests on the license amendment for the Yadkin Pee-Dee Hydroelectric Project No. 2206. Due to the funding lapse at certain federal agencies between December 22, 2018 and January 25, 2019, the Commission is extending the comment period until March 4, 2019.

Dated: February 13, 2019.
Kimberly D. Bose,
Secretary.

[FR Doc. 2019-02831 Filed 2-19-19; 8:45 am]

BILLING CODE 6717-01-P